DEPARTMENT OF VETERANS AFFAIRS

Solicitation of Nominations for Appointment to the Veterans Rural Health Advisory Committee

ACTION: Notice.

SUMMARY: The Department of Veterans Affairs (VA), Office of Rural Health, is seeking nominations of qualified candidates to be considered for appointment to the Veterans Rural Health Advisory Committee (VRHAC). The Committee advises the Secretary on ways to improve and enhance access to VA healthcare services for enrolled Veterans residing in rural areas and the identification of barriers to providing services. The Committee makes recommendations to the Secretary regarding such activities. Nominations of qualified candidates are being sought to fill upcoming vacancies on the Committee.

DATES: Nominations for membership on the Committee must be received no later than 5:00 p.m. EST on December 15, 2016.

ADDRESSES: Nominations should be submitted to the VA Office of Rural Health by email at VRHAC@va.gov or via United States Postal Service to VA Office of Rural Health, 810 Vermont Ave., Mail Code 10P1R, Washington, DC 20420.

FOR FURTHER INFORMATION CONTACT: VA Office of Rural Health, Department of Veterans Affairs, 810 Vermont Ave. NW., Mail Code 10P1R, Washington, DC 20420, or by telephone at (202) 632-8576. A list of the current membership can be viewed at http://www.ruralhealth.va.gov/aboutus/vrhac.asp.

SUPPLEMENTARY INFORMATION: The Committee was established by direction of the Secretary of Veterans Affairs, and operates under the provisions of the Federal Advisory Committee Act, as amended, 5 U.S.C. 2. The Committee consists of 12 Members representing federal agencies appointed by the Secretary of VA and 4 appointed Ex Officio members. The Committee is tasked with examining ways to enhance health care services for Veterans in rural areas. The Committee works in collaboration with the VA Office of Rural Health (ORH) to discuss programs and policies that impact the provision of VA health care services to Veterans in rural areas. The Committee hosts a minimum of two Advisory meetings a year and provides recommendations to the VA Secretary.

Membership Criteria: Nominee must understand issues and/or policy affecting rural Veterans, their families, and the rural communities where they live. Nominee must be familiar with healthcare services, delivery of care in rural areas, and benefits issues as they pertain to rural Veterans. Members of the Committee meet in person twice a year and may meet at other times by teleconference as needed. Members serve an initial three-year term and the Secretary may reappoint members for additional terms of service. During the course of their terms, Committee members are expected to attend all meetings and to contribute their time and expertise to Committee projects. It is the potential candidate's responsibility to identify possible conflict(s) of interest that might affect their objectivity and recommendations submitted to the Secretary. If a potential conflict is identified, detailed information about the possible conflict such as employment, research grants and/or contracts must be provided to permit evaluation of possible conflicts of interest.

Professional Qualifications: Nominee must have experience working on Veterans' policy issues at the local, state or regional level; and have an understanding of how the rural healthcare delivery system operates.

Requirements for Nomination Submission: Nominations should be type written (one nomination per nominator). Nomination package should include: (1) A letter of nomination that clearly states the name and affiliation of the nominee, the basis for the nomination (i.e., specific attributes which qualify the nominee for service in this capacity), and a statement from the nominee indicating a willingness to serve as a member of the Committee; (2) the nominee's contact information, including name, mailing address, telephone numbers, and email address; (3) the nominee's curriculum vitae or resume, and (4) a summary of the nominee's experience and qualification relative to the professional qualifications criteria listed above. Self-nominations are welcome. Third-party nominations must indicate that the nominee has been contacted and is willing to serve.

Membership Terms: Individuals selected for appointment to the Committee shall be invited to serve a three-year term. Committee members will receive a stipend for attending Committee meetings, including per diem and reimbursement for travel expenses incurred.

The Department makes every effort to ensure that the membership of its Federal advisory committees is fairly balanced in terms of points of view represented and the committee's function. Every effort is made to ensure that a broad representation of geographic areas, males and females, racial and ethnic minority groups, and the disabled are given consideration for membership. Appointment to this Committee shall be made without discrimination because of a person's race, color, religion, sex (including gender identity, transgender status, sexual orientation, and pregnancy), national origin, age, disability, or genetic information. Nominations must state that the nominee is willing to serve as a member of the Committee and appears to have no conflict of interest that would preclude membership. An ethics review is conducted for each selected nominee.

Authority: The Committee was established in accordance with 5 U.S.C. 2.

Dated: August 23, 2016.
LaTonya L. Small,
Federal Advisory Committee Management Office.

[FR Doc. 2016-20543 Filed 8-25-16; 8:45 am]

BILLING CODE P